DEPARTMENT OF ENERGY

Issuance of a Loan Guarantee to Tonopah Solar Energy, LLC, for the Crescent Dunes Solar Energy Project

AGENCY: U.S. Department of Energy.

ACTION: Record of decision.

SUMMARY: The U.S. Department of Energy (DOE) announces its decision to issue a Federal loan guarantee under Title XVII of the Energy Policy Act of 2005 (EPAct 05), as amended by Section 406 of the American Recovery and Reinvestment Act of 2009 (Recovery Act), to Tonopah Solar Energy, LLC (TSE), for construction and start-up of the Crescent Dunes Solar Energy Project (the Project). The Project is a proposed 110-megawatt solar power generating facility based on concentrating solar power technology, using mirrors and a central receiver, on approximately 2,250 acres of U.S. Bureau of Land Management (BLM)-administered lands in Nye County, Nevada. The environmental impacts of construction and start-up of the Project were analyzed in the Final Environmental Impact Statement for the Tonopah Solar Energy, LLC, Crescent Dunes Solar Energy Project, Nye County, Nevada (75 FR 70917, November 19, 2010) (FEIS), prepared by BLM with DOE as a cooperating agency. BLM consulted DOE during the preparation of this EIS, DOE provided comments, and BLM addressed those comments in the FEIS. DOE subsequently determined that the Project analyzed in the FEIS was substantially the same as the Project that would be covered by the DOE loan guarantee, and DOE adopted the FEIS (76 FR 7844; February 11, 2011).

ADDRESSES: Copies of this Record of Decision (ROD) and the FEIS may be obtained by contacting Angela Colamaria, DOE National Environmental Policy Act (NEPA) Document Manager, Environmental Compliance Division, Loan Programs Office (LP-10), U.S. Department of Energy, 1000 Independence Avenue, SW., Washington, DC 20585; telephone (202) 287-5387; or e-mail at Angela.Colamaria@hq.doe.gov, or by accessing these documents on the DOE NEPA Web site at http://nepa.energy.gov and at the Loan Programs Office Web site at http://www.lgprogram.energy.gov/NEPA_EIS.html.

FOR FURTHER INFORMATION CONTACT: Angela Colamaria, as indicated in the ADDRESSES section above. For general information on the DOE NEPA process, contact Carol Borgstrom, Director, Office of NEPA Policy and Compliance (GC-54), U.S. Department of Energy, 1000 Independence Avenue, SW., Washington, DC 20585; telephone (202) 586-4600; leave a message at (800) 472-2756; or e-mail AskNEPA@hq.doe.gov. Information about DOE NEPA activities and access to DOE NEPA documents are available on the DOE NEPA Web site at http://nepa.energy.gov.

SUPPLEMENTARY INFORMATION:

Project Background

The Project is a proposed 110-megawatt solar power generating facility based on concentrating solar power technology. This technology uses heliostats (reflecting mirrors) to redirect sunlight onto a receiver erected in the center of a solar field (called the central receiver). The proposed solar power facility is to be located on approximately 2,250 acres of BLM-managed lands in south-central Nevada, roughly 13.5 miles northwest of Tonopah, in Nye County, and located within the southern portion of the Big Smoky Valley, north of US Highway 95/6 along Pole Line Road (State Highway 89). The proposed facility will consist of up to approximately 17,500 heliostats/reflecting mirrors occupying about 1,600 acres of the total project area. Each heliostat will be approximately 670 square feet, together yielding a total reflecting surface of about 12,000,000 square feet (275.48 acres). The arrangement of the heliostats within the array will be optimized to maximize the amount of solar energy that could be collected by the field. The solar collecting tower/central receiver system will generate electric power from sunlight by focusing concentrated solar radiation onto a tower-mounted receiver. The solar collecting tower will be a total of 653 feet high, including a 100-foot tall cylindrical receiver mounted on the top of the tower. The central receiver system will consist of a series of tubes through which a liquid salt passes and is heated by the concentrated solar energy. The heated salt will be routed to a large insulated tank where it will be stored with minimal energy loss. To generate electricity, the heated salt will be circulated through a series of heat exchangers to generate high-pressure, superheated steam that will be used to power a conventional Rankine cycle steam turbine/generator. Energy produced from the facility will connect to the electrical grid through a new 6.9-mile 230 kilovolt (kV) transmission line that will follow a path west to an existing transmission alignment. A 40-acre borrow pit will be needed to extract aggregate for construction of the access road and the base of the proposed facility. A paved, two-lane access road will extend approximately 1,500 feet from Pole Line Road to the proposed facility.

DOE's offer of a loan guarantee for the Project is authorized under Title XVII of the Energy Policy Act of 2005, as amended by Section 406 of the Recovery Act. Title XVII as amended authorizes a program for rapid deployment of renewable energy and electric power transmission projects (the Section 1705 Program).

Before applying for a loan guarantee, TSE filed an application with BLM for a land use right-of-way pursuant to Title V of the Federal Land Policy and Management Act (43 U.S.C. 1761), which authorizes BLM to issue right-of-way (ROW) lease/grants for renewable energy projects on BLM land. The issuance of this ROW lease/grant was considered a major Federal action as defined by NEPA, and preparation of an EIS was initiated by BLM.

NEPA Review

BLM was the lead Federal agency in the preparation of the EIS, and DOE was a cooperating agency pursuant to a Memorandum of Understanding between BLM and DOE signed in February 2009. DOE reviewed the content of the EIS, and provided comments to BLM to ensure that information required by DOE NEPA regulations (10 CFR Part 1021) was included, and that the analyzed alternatives encompassed DOE's proposed loan guarantee for construction and start-up of the Project.

On November 24, 2009, BLM published the “Notice of Intent to Prepare an Environmental Impact Statement for the Proposed Tonopah Solar Energy, LLC, Crescent Dunes Solar Energy Project, Nye County, Nevada” in the Federal Register (74 FR 225). Both the Environmental Protection Agency (EPA) and BLM published Notices of Availability of the Draft Environmental Impact Statement (DEIS) in the Federal Register on September 3, 2010 (75 FR 54145 and 75 FR 54177, respectively). The DEIS was available for a 45-day public comment period, which closed on October 18, 2010. Two open house public meetings were held to provide further public involvement: One in Las Vegas, Nevada, on September 22, 2010, and the other in Tonopah, Nevada, on September 23, 2010. During the comment period for the DEIS, BLM received 23 comment letters. Comments received on the DEIS were addressed in the FEIS, and resulted in the addition of clarifying text.

BLM completed the Project FEIS in cooperation with the United States Air Force, DOE, the Nevada Department of Wildlife, Nye County, Esmeralda County, and the Town of Tonopah; EPA published a Notice of Availability for the FEIS in the Federal Register on November 19, 2010 (75 FR 70917). The FEIS analyzed the environmental impacts that would be associated with construction and operation of the Project, and addressed public comments.

On December 20, 2010, BLM decided to allow a solar energy ROW lease/grant to TSE for the Project to be constructed on BLM-managed land in Nye County, Nevada. BLM identified its Selected Alternative and the Secretary of the Interior issued Secretarial Approval of this decision. The environmental mitigation measures for the Project were specified in BLM's ROD (75 FR 81307; December 27, 2010). Links to these documents can be found at the BLM Web site: http://www.blm.gov/nv/st/en/fo/battle_mountain_field/blm_information/national_environmental/crescent_dunes_solar.html.

After independently reviewing the BLM FEIS, DOE determined that the issues raised by commenters have been adequately addressed in the FEIS. On January 31, 2011, DOE adopted the FEIS (DOE/EIS-0454) to meet its NEPA obligations related to its proposal to provide up to $737 million in a loan guarantee to support the financing of the Project. The Notice of Adoption was published by EPA in the Federal Register on February 11, 2011 (76 FR 7844).

Alternatives Considered

BLM considered three site locations that would occupy nearly equal acreage on lands administered by BLM and would use the same concentrating solar power technology. BLM's Proposed Action would eliminate 1,374 acres of Nevada oryctes (a state protected plant) habitat and 1,466 acres of pale kangaroo mouse (a state protected species) habitat. The Proposed Action would be located to the south of the Crescent Dunes Special Recreation Management Area (SRMA), but would not encroach on the SRMA. It would have potential conflicts with the Air Force radar testing mission at the nearby Nevada Test and Training Range.

BLM's Alternative 1 would encroach on 130 acres of a ROW avoidance area for the Crescent Dunes SRMA, thus creating the need for an amendment to the Tonopah Resource Management Plan. This alternative would eliminate 803 acres of Nevada oryctes habitat, 1,191 acres of pale kangaroo mouse habitat, and 7 acres of habitat for several endemic species of scarab beetles (BLM sensitive species). Alternative 1 would minimize potential conflicts with military operations for the Air Force radar testing mission.

BLM's Preferred Alternative, which it selected in its ROD, is Alternative 2. Alternative 2 is situated on low or no-relief public land. This alternative encompasses 2,250.27 acres of public lands. However, the proposed project facility would only utilize approximately 2,094.27 acres, of which 1,620 acres would be disturbed. Alternative 2 is located to the west of the Crescent Dunes SRMA and eliminates or reduces environmental impacts overall, such as visual impacts to recreational users of the SRMA. The site would disturb 434 acres of habitat for the Nevada oryctes and the pale kangaroo mouse, and there would be no impacts to habitat for the endemic species of scarab beetles. The site also minimizes potential conflicts with military operations for the Air Force radar testing mission. Finally, the site is located closer to an access road and an existing transmission line, and would therefore reduce the amount of necessary surface disturbance.

BLM also examined the impacts resulting from a No Action Alternative, under which the Project would not be constructed. All of these alternatives were described in detail and fully analyzed in the FEIS.

DOE's decision is whether or not to issue a loan guarantee to Tonopah Solar Energy, LLC, for $737 million to support construction and startup of the Project as selected in the BLM ROD. Accordingly, the DOE alternatives are to issue the loan guarantee to TSE for construction and start-up of the Project under Alternative 2, which BLM selected in its ROD, and the No Action Alternative. Under the No Action Alternative, DOE would not issue a loan guarantee for the Project and it is not likely that TSE would implement the Project as currently planned.

Environmentally Preferred Alternative

BLM identified Alterative 2 as the Environmentally Preferred Alternative. This Alternative has the least impacts to special status plants and wildlife species, stays within the existing transmission corridor and reduces the length of the transmission line needed. It does not encroach upon the Crescent Dunes SRMA.

DOE has decided that its alternative to issue a loan guarantee for construction and start-up of the Project, as selected in the BLM ROD, is environmentally preferable. DOE has determined that the Project offers substantial environmental benefits due to reductions in greenhouse gas emissions, as described in the FEIS. DOE has also determined that all practicable means to avoid or minimize environmental harm, as described in the BLM ROD, have been adopted as mitigation measures by BLM.

Consultation

As the lead Federal agency for the Crescent Dunes Solar Energy Project, BLM complied with section 106 of the National Historic Preservation Act, section 7 of the Endangered Species Act, and the Bald and Golden Eagle Protection Act, and entered into government-to-government consultations with Native American tribes. The mitigation measures included in the BLM decision resulted from these consultations and are addressed in the FEIS and BLM ROD. Specifically, the Nevada State Historic Preservation Office (SHPO) reviewed this project under section 106 of the National Historic Preservation Act, and concurred with BLM's determinations of site eligibility to the National Register of Historic Places (NRHP) of nine eligible properties that will be affected by this project. A Historic Properties Treatment Plan describing mitigation measures that will be employed to resolve any adverse effect to the nine NRHP eligible sites has been prepared. A Memorandum of Agreement between the BLM and Nevada SHPO has been implemented to ensure the Historic Properties Treatment Plan will mitigate any adverse effect to these NRHP-eligible sites. Furthermore, an Endangered Species Act section 7 consultation was completed by BLM during the NEPA process, and a Wildlife Mitigation and Monitoring Plan was included in the FEIS. Finally, BLM conducted and completed Tribal consultation with Federally-Recognized Indian Tribes, and consulted with the Nevada SHPO.

Decision

DOE has decided to issue a loan guarantee for construction and start-up of the Crescent Dunes Solar Energy Project, as selected in the BLM ROD.

Approval of the loan guarantee for the Project responds to DOE's purpose and need pursuant to Title XVII of EPAct 05, as amended by section 406 of the Recovery Act, which authorizes a new program for rapid deployment of renewable energy projects. The primary purposes of the Recovery Act are job preservation and creation, infrastructure investment, energy efficiency and science, assistance to the unemployed, and state and local fiscal stabilization. The Section 1705 Program is designed to address the current economic conditions of the Nation, in part, through renewable energy, transmission, and leading-edge biofuels projects. Eligible projects must commence construction no later than September 30, 2011.

In reaching this decision, DOE reviewed the Project NEPA documentation and considered the potential impacts of the selected alternative, including implementation of the stipulated mitigation measures. DOE prepared this ROD in accordance with the Council on Environmental Quality regulations for implementing NEPA and DOE's NEPA Implementing Procedures.

Mitigation

The Project that will be supported by issuance of the DOE loan guarantee includes all mitigation conditions applied by BLM in its ROD. BLM is the Federal lead agency for the Project under NEPA, and is responsible for ensuring compliance with all adopted mitigation measures for the Project set out in its ROD. A description of the mitigation measures is provided in the BLM ROD and in BLM's ROW lease/grant (Appendix A to the BLM ROD). BLM has incorporated these mitigation measures into the ROW lease/grant as terms and conditions (Exhibit B to the ROW lease/grant).

The DOE loan guarantee agreement requires the applicant to comply with all applicable laws and the terms of the ROW lease/grant, including its mitigation measures. An applicant's failure to comply with applicable laws and the ROW lease/grant would constitute a default. Upon the continuance of a default, DOE would have the right under the loan guarantee agreement between it and the applicant to exercise usual and customary remedies. To ensure that the applicant so performs, the DOE Loan Programs Office proactively monitors all operative loan guarantee transactions.

Issued in Washington, DC, on September 23, 2011.
Jonathan M. Silver,
Executive Director, Loan Programs Office.

[FR Doc. 2011-25049 Filed 9-28-11; 8:45 am]

BILLING CODE 6450-10-P